DEPARTMENT OF THE INTERIOR

Bureau of Land Management

[NV-952-1430-BX]

Availability of Electronic Records

AGENCY: Bureau of Land Management.

ACTION: Notice of availability.

SUMMARY: The purpose of this notice is to inform the public and interested State and local government officials of the availability of electronic Title Records in Nevada.

EFFECTIVE DATES: November 1, 2002.

FOR FURTHER INFORMATION CONTACT: Robert M. Scruggs, Chief, Branch of Geographic Sciences, Bureau of Land Management (BLM), Nevada State Office, 1340 Financial Blvd., PO Box 12000, Reno, Nevada 89520, 775-861-6644.

SUPPLEMENTARY INFORMATION: Beginning on November 1, 2002, the Bureau of Land Management's (BLM) Nevada State Office will make available its Master Title Plats, Use Plats, and Historical Indices (Title Records) in an electronic format. At the same time, the BLM will phase out the use of microfiche for these records. This change reflects the BLM's changeover from a manual to a computer aided drafting process in the maintenance of the Title Records. Until November 1, 2002, Title Records will continue to be available on microfiche, at which time the microfiche will be phased out.

Users of the BLM Nevada's Title Record will continue to have access to these records from any of its Information Access Center locations. BLM offices are located in Reno, Winnemucca, Battle Mountain, Elko, Ely, Tonopah, Caliente, Carson City and Las Vegas.

Users may continue to make printouts of these records for a nominal cost. Cost for each record printed will be in accordance with the BLM's cost recovery charging rates as stated in Manual 1270-2, Cost Recovery, dated June 23, 1994.

Dated: October 2, 2002.
Robert V. Abbey,
State Director, Nevada.

[FR Doc. 02-29827 Filed 11-21-02; 8:45 am]

BILLING CODE 4310-HC-P